DEPARTMENT OF THE INTERIOR

National Park Service

Notice of Extension of Concession Contract

AGENCY: National Park Service, Interior.

ACTION: Public Notice.

EFFECTIVE DATE: June 1, 2008.

FOR FURTHER INFORMATION CONTACT: Jo A. Pendry, Concession Program Manager, National Park Service, Washington, DC, 20240, Telephone 202-513-7156.

SUMMARY: Pursuant to 36 CFR 51.23, public notice is hereby given that the National Park Service proposes to extend the following expiring concession contract for a period of up to 1 year, or until such time as a new contract is executed, whichever occurs sooner.

SUPPLEMENTARY INFORMATION: The listed concession authorization will expire by its terms on or before May 31, 2008. The National Park Service has determined that the proposed short-term extension is necessary in order to avoid interruption of visitor services and has taken all reasonable and appropriate steps to consider alternatives to avoid such interruption.

Conc ID No. | Concessioner name | Park
PORE003-98 | American Youth Hostels | Point Reyes National Seashore.

Dated: April 11, 2008.
Katherine H. Stevenson,
Acting Assistant Director, Business Services.

[FR Doc. E8-10636 Filed 5-14-08; 8:45 am]

BILLING CODE 4312-53-M